DEPARTMENT OF THE INTERIOR

Office of the Secretary

[156D0102DM DLSN00000.000000 DS61200000 DX61201]

Proposed Renewal of Information Collection: OMB Control Number 1040-0001, DOI Programmatic Clearance for Customer Satisfaction Surveys

AGENCY: Department of the Interior.

ACTION: Notice and request for comments.

SUMMARY: In compliance with the Paperwork Reduction Act of 1995, we (Department of the Interior, DOI) plan to ask the Office of Management and Budget (OMB) to extend the approval for the information collection (IC) described below. This IC is scheduled to expire June 30, 2015. We invite the general public and other Federal agencies to take this opportunity to comment on this IC.

DATES: Consideration will be given to all comments received by May 18, 2015.

ADDRESSES: Mail or hand carry comments to the Department of the Interior; Office of Policy Analysis; Attention: Don Bieniewicz; Mail Stop 3530; 1849 C Street NW., Washington, DC 20240. If you wish to email comments, the email address is: Donald_Bieniewicz@ios.doi.gov. Reference “DOI Programmatic Clearance for Customer Satisfaction Surveys, OMB Control Number: 1040-0001” in your email subject line. Include your name and return address in your email message and mark your message for return receipt.

FOR FURTHER INFORMATION CONTACT: To request a copy of the information collection request, any explanatory information and related forms, see the contact information provided in the ADDRESSES section above.

SUPPLEMENTARY INFORMATION:

I. Abstract

This notice is for renewal of information collection.

The Office of Management and Budget (OMB) regulations at 5 CFR part 1320, which implement the Paperwork Reduction Act of 1995, 44 U.S.C. 3501 et seq., require that interested members of the public and affected agencies have an opportunity to comment on information collection and recordkeeping activities (see 5 CFR 1320.8(d)).

The Government Performance and Results Act of 1993 (GPRA) (Pub. L. 103-62) requires agencies to “improve Federal program effectiveness and public accountability by promoting a new focus on results, service quality, and customer satisfaction.” Executive Order 13571 on “Streamlining Service Delivery and Improving Customer Service” requires Federal agencies to establish “mechanisms to solicit customer feedback on Government services.” To fulfill this responsibility, DOI bureaus and offices must collect data from their respective user groups to better understand the needs and desires of the public and to respond accordingly.

The proposed renewal covers all of the organizational units and bureaus in DOI. Bureaus and offices will voluntarily obtain information from their customers and stakeholders. No one survey will cover all the topic areas; rather, these topic areas serve as a guide within which the agencies will develop questions. Topic areas include:

(1) Communication/information/education. Questions will focus on customer satisfaction with aspects of communication/information/products/education offered. Respondents may be asked for feedback regarding the following attributes of the services provided:

(a) Timeliness.

(b) Consistency.

(c) Ease of Use and Usefulness.

(d) Ease of Information Access.

(e) Helpfulness and Effectiveness.

(f) Quality.

(g) Value for fee paid for information/product/service.

(h) Level of engagement in communications process (i.e., whether respondent feels he/she was asked for input and whether or not that input was considered).

(2) Disability accessibility. This area will focus on customer satisfaction data related to disability access to DOI buildings, facilities, trails, etc.

(3) Management practices. This area covers questions relating to how well customers are satisfied with DOI management practices and processes, what improvements they might make to specific processes, and whether or not they feel specific issues were addressed and reconciled in a timely, courteous, and responsive manner.

(4) Resource management. We will ask customers and partners to provide satisfaction data related to DOI's ability to protect, conserve, provide access to, and preserve natural resources that we manage.

(5) Rules, regulations, policies. This area focuses on obtaining feedback from customers regarding fairness, adequacy, and consistency in enforcing rules, regulations, and policies for which DOI is responsible. It will also help us understand public awareness of rules and regulations and whether or not they are explained in a clear and understandable manner.

(6) Service delivery. We will seek feedback from customers regarding the manner in which DOI delivers services. Attributes will range from the courtesy of staff to timeliness of service delivery and staff knowledge of the services being delivered.

(7) Technical assistance. Questions developed within this topic area will focus on obtaining customer feedback regarding attributes of technical assistance, including timeliness, quality, usefulness, and the skill level of staff providing this assistance.

(8) Program-specific. Questions for this area will reflect the specific details of a program that pertain to its customer respondents. The questions will address very specific and/or technical issues related to the program. The questions will be geared toward gaining a better understanding about how to provide specific products and services and the public's attitude toward their usefulness.

(9) General demographics. Some general demographics may be used to augment satisfaction questions so that we can better understand the customer and improve how we serve that customer. We may ask customers how many times they have used a service, visited a facility within a specific timeframe, their ethnic group, or their race.

II. Data

(1) Title: DOI Programmatic Clearance for Customer Satisfaction Surveys.

OMB Control Number: 1040-0001.

Current Expiration Date: June 30, 2015.

Type of Review: Information Collection Renewal.

Affected Entities: DOI customers. We define customers as anyone who uses DOI resources, products, or services. This includes internal customers (anyone within DOI) as well as external customers (e.g., the American public, representatives of the private sector, academia, and other government agencies). Depending upon their role in specific situations and interactions, citizens and DOI stakeholders and partners may also be considered customers. We define stakeholders to mean groups or individuals who have an expressed interest in and who seek to influence the present and future state of DOI's resources, products, and services. Partners are those groups, individuals, and agencies who are formally engaged in helping DOI accomplish its mission.

Estimated annual number of respondents: 120,000. We estimate approximately 60,000 respondents will submit DOI customer satisfaction surveys and 60,000 will submit comment cards.

Frequency of responses: On occasion.

(2) Annual reporting and recordkeeping burden:

Total time per response: 15 minutes for a customer survey; 3 minutes for a comment card.

Total number of estimated responses: 120,000.

Total annual reporting: 18,000 hours.

(3) Description of the need and use of the information: We use customer satisfaction surveys to help us fulfill our responsibilities to provide excellence in government by proactively consulting with those we serve. This programmatic clearance provides an expedited approval process for DOI bureaus and offices to conduct customer research through external surveys such as questionnaires and comment cards. We anticipate that the information obtained could lead to reallocation of resources, revisions in certain agency processes and policies, development of guidance related to customer services, and improvement in the way we serve the American public.

III. Request for Comments

The Department invites comments on:

(a) Whether the collection of information is necessary for the proper performance of the functions of the agencies, including whether the information will have practical utility;

(b) The accuracy of the agency's estimate of the burden of the collection of information and the validity of the methodology and assumptions used;

(c) Ways to enhance the quality, utility, and clarity of the information to be collected; and

(d) Ways to minimize the burden of the collection of information on respondents, including through the use of appropriate automated, electronic, mechanical, or other collection techniques or other forms of information technology.

“Burden” means the total time, effort, and financial resources expended by persons to generate, maintain, retain, disclose, or provide information to or for a Federal agency. This includes the time needed to review instructions; to develop, acquire, install, and use technology and systems for the purposes of collecting, validating, and verifying information, processing and maintaining information, and disclosing and providing information; to train personnel and to be able to respond to a collection of information, to search data sources, and to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with the Department of the Interior; Office of Policy Analysis as indicated in the ADDRESSES section above. A valid picture identification is required for entry into the Department of the Interior.

Comments submitted in response to this notice will be summarized and/or included in the request for OMB approval of this information collection; they also will become a matter of public record.

An agency may not conduct or sponsor, and a person is not required to respond to, a collection of information unless it displays a currently valid Office of Management and Budget control number.

Dated: March 12, 2015.
Benjamin Simon,
Assistant Director, Office of Policy Analysis, U.S. Department of the Interior.

[FR Doc. 2015-06229 Filed 3-17-15; 8:45 am]

BILLING CODE 4334-63-P